DEPARTMENT OF ENERGY

Federal Energy Regulatory Commission

[Docket Nos. CP02-229-000, CP02-230-000 and CP02-231-000]

SG Resources Mississippi, L.L.C.; Notice of Application

May 24, 2002.

Take notice that on May 17, 2002, SG Resources Mississippi L.L.C. (SGRM), 7500 San Felipe, Suite #600, Houston, Texas 77063 filed in Docket Nos. CP02-229-000, CP02-230-000 and CP02-231-000 an application pursuant to Section 7(c) of the Natural Gas Act and Parts 284 and 157 of the Commission's Regulations for a certificate of public convenience and necessity to construct, own and operate a natural gas storage facility subject to the jurisdiction of the Commission, to provide open-access firm and interruptible storage services and to engage in certain routine activities, all as more fully set forth in the application which is on file with the Commission and open to public inspection. This filing may also be viewed on the web at http://www.ferc.gov using the “RIMS” link, select “Docket#” and follow the instructions (call 202-208-2222 for assistance).

Specifically, SGRM seeks (1) a certificate of public convenience and necessity that would authorize SGRM to construct, own, operate and maintain a high-deliverability salt-dome gas storage facility that will accommodate the injection, storage and subsequent withdrawal of natural gas for redelivery in interstate commerce; (2) a blanket certificate pursuant to Subpart G of Part 284 that will permit SGRM to provide open-access firm and interruptible natural gas storage services on behalf of others in interstate commerce with pre-granted abandonment of such services; (3) a blanket certificate pursuant to Subpart F of Part 157 that will permit SGRM to construct, acquire, operate, rearrange and abandon certain facilities following construction of the proposed project; (4) authorization to provide the proposed storage services at market-based rates; and (5) approval of a pro forma FERC Gas Tariff, pursuant to which SGRM will provide open access natural gas storage services in interstate commerce consistent with Order Nos. 636 and 637. SGRM also requests that the Commission waive the requirements of (i) Sections 157.6(b)(8) and 157.14(a), (13), (14), (16) and (17) which relate to the filing of information required to justify rates on a cost-of-service basis, given that SGRM proposes to charge market-based rates for the services it will provide; (ii) Section 157.14 (a)(10) which requires a showing regarding accessible gas supplies that is not applicable to a storage project to which third parties will deliver their gas; (iii) Section 260.2 and Part 201 which are accounting and reporting requirements appropriate for cost-of-service rate structure; and (iv) Sections 284.7(e) and 284.10 which impose requirements relating to the design of rates that are not applicable to market-based rates.

SGRM states that it is a new company which seeks authorization to construct and operate the proposed storage facility to accommodate the injection, storage and subsequent withdrawal of natural gas for redelivery in interstate commerce. SGRM maintains that the Southern Pines Energy Center Project would help support service to growing peak winter heating and summer cooling loads in the U.S. Southeast and Mid-Atlantic regions, increase the reliability of natural gas supply during periods of production and transportation interruptions, enhance the interstate pipeline grid's ability to serve new gas-fired electric generation, and facilitate the continued growth of local distribution companies serving Southeast and Mid-Atlantic energy markets. SGRM states that the proposed project will provide approximately 12.0 Bcf of working gas storage capacity in two salt caverns, with 1.2 Bcf per day of maximum deliverability and up to 0.6 Bcf per day of injection capabilities. SGRM states that the caverns will be created in a domal salt structure, known as the Byrd Dome, in Greene County, Mississippi. SGRM states that the project will include a Gas Handling Facility designed to utilize four gas engine-driven compressors of 8,000 hp each. It is stated that an interconnecting pipeline, consisting of two 24-inch pipelines approximately 3.13 miles long, will be constructed from the Gas Handling Facility to a point of connection with the facilities of Destin Pipeline Company, L.L.C. Further, SGRM states that the infrastructure required to support cavern development will include water supply and brine disposal wells, associated pumping and piping systems and non-jurisdictional temporary gas-fired electric generation facilities.

SGRM asserts that in a recently concluded open season, SGRM received requests for service for more than 34 Bcf of capacity. SGRM states that of that total amount, SGRM has determined that requests for more than 16 Bcf of capacity are viable. It is stated that SGRM is currently discussing binding commitments with the requesting parties, and has executed a binding precedent agreement with one such party for firm storage service making use of 3 Bcf of the project's capacity for a primary term of ten years.

SGRM states that it is proposing to provide open-access firm and interruptible storage services to its customers, and is requesting authorization to charge market-based rates for such services. SGRM states that its market power study demonstrates that SGRM will not have market power in any relevant market.

Questions regarding the details of this proposed project should be directed to Jack W. Gatewood, Anthony J. Clark or Xavier Allemandou at SG Resources Mississippi, L.L.C., 7500 Felipe, Suite #600, Houston, Texas 77063 at (713) 914-8188 (phone), (713) 914-8189 (fax), jwgatewood@aol.com or James F. Bowe, Jr., Dewey Ballantine LLP, 1775 Pennsylvania Avenue, NW., Washington, DC 20006-4605, (202) 429-1444 (phone), (202) 429-1579 (fax), jbowe@dbllp.com.

There are two ways to become involved in the Commission's review of this project. First, any person wishing to obtain legal status by becoming a party to the proceedings for this project should, on or before June 14, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Magalie R. Salas,
Secretary.

[FR Doc. 02-13659 Filed 5-30-02; 8:45 am]

BILLING CODE 6717-01-P